DEPARTMENT OF EDUCATION

Submission for OMB Review; Comment Request

AGENCY: Department of Education.

SUMMARY: The Acting Director, Information Collection Clearance Division, Regulatory Information Management Services, Office of Management invites comments on the submission for OMB review as required by the Paperwork Reduction Act of 1995 (Pub. L. 104-13).

DATES: Interested persons are invited to submit comments on or before July 30, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology.

Dated: June 25, 2010.
James Hyler,
Acting Director, Information Collection Clearance Division, Regulatory Information Management Services, Office of Management.

Office of Planning, Evaluation and Policy Development

Type of Review: Revision.

Title of Collection: Evaluation of the Teacher Incentive Fund (TIF) Program.

OMB #: 1875-0256.

Frequency of Responses: On Occasion.

Affected Public: State, Local, or Tribal Government (Gov't), State Educational Agencies (SEAs) or Local Educational Agencies (LEAs).

Estimated Number of Annual Responses: 2,627.

Estimated Annual Burden Hours: 1,009.

Abstract: In 2006, the U.S. Department of Education launched the Teacher Incentive Fund (TIF), which awards competitive grants to develop and implement performance-based compensation systems in high-need schools. The purpose of the evaluation is to describe the implementation of the program and its relationship to any increases in recruitment and retention of effective teachers and principals. If feasible, this evaluation will also seek to analyze TIF's relationship to increasing student achievement.

This evaluation of the TIF program includes an implementation study of the Cohort 1 and 2 TIF grantees.

The implementation study will describe the central features of the local TIF performance-pay programs, the implementation of the programs, and similarities and differences in performance pay programs. Data collection activities will be iterative, beginning with telephone interviews of key stakeholders in all the TIF sites (completed winter 2010), followed by two rounds of more in-depth case studies in a sample of sites. Representative surveys of principals and teachers will also be conducted to represent the full range of program knowledge and experiences in each grantee program. The implementation study may be used in conjunction with outcomes data (if the Department exercises optional outcomes tasks) to help explain the relationship between program characteristics and system supports and program outcomes.

Requests for copies of the information collection submission for OMB review may be accessed from the RegInfo.gov Web site at http://www.reginfo.gov/public/do/PRAMain or from the Department's website at http://edicsweb.ed.gov, by selecting the “Browse Pending Collections” link and by clicking on link number 4249. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title and OMB Control Number of the information collection when making your request.

Comments regarding burden and/or the collection activity requirements should be electronically mailed to ICDocketMgr@ed.gov. Individuals who use a telecommunications device for the deaf (TDD) may call the Federal Information Relay Service (FIRS) at 1-800-877-8339.

[FR Doc. 2010-15915 Filed 6-29-10; 8:45 am]

BILLING CODE 4000-01-P